DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Mary Jean Pajak, P.E., FEMA, 500 C Street SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR part 67.

The Agency has developed criteria for floodplain management in floodprone areas in accordance with 44 CFR Part 60.

Interested lessees and owners of real property are encouraged to review the proof. Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD) • Elevation in feet (NAVD)
MAINE
Beals (Town), Washington County (FEMA Docket No. D-7556)
Atlantic Ocean:
At Alley Point, approximately 2,700 feet west of the intersection of Black Duck Cove Road and Carver Industry Road | * 14
Approximately 800 feet southeast of the end of Black Field Road | * 13
Maps available for inspection at the Beals Town Office, 11 Big Pond Road, Beals, Maine.
PENNSYLVANIA
College (Township), Centre County (FEMA Docket No. D-7548)
Cedar Run:
Approximately 60 feet upstream of the confluence with Spring Creek | * 1,036
At upstream corporate limits | * 1,078
Maps available for inspection at the College Township Municipal Building, 1481 East College Avenue, State College, Pennsylvania.
———
Ferguson (Township), Centre County (FEMA Docket No. D-7558)
Big Hollow Run:
Approximately 700 feet downstream of Corl Street | * 1,098
Approximately 525 feet downstream of Corl Street | 1,099
Maps available for inspection at the Ferguson Township Municipal Building, 3147 Research Drive, State College, Pennsylvania.
———
Harris (Township), Centre County (FEMA Docket No. D-7548)
Cedar Run:
Approximately 2,680 feet downstream of the railroad | * 1,078
Approximately 125 feet upstream of Rock Hill Road | * 1,114
Mackey's Run:
At the confluence with Cedar Run | * 1,105
Approximately 217 feet upstream of Rock Hill Road | * 1,108
Spring Creek:
At the corporate limits, coincident with Mary Elizabeth Street | * 1,056
Maps available for inspection at the Harris Township Municipal Office, 224 East Main Street, Boalsburg, Pennsylvania.
WEST VIRGINIA
Oceana (Town), Wyoming County (FEMA Docket No. D-7556)
Clear Fork:
Approximately 330 feet downstream of corporate limits | * 1,239
At upstream corporate limits | * 1,292
Laurel Fork:
At confluence with Clear Fork | * 1,265
At the upstream of corporate limits | * 1,278
Maps available for inspection at the Oceana Town Hall, Route 10, Cook Parkway, Oceana, West Virginia.

(Catalog of Federal Domestic Assistance No. 83.100, “Flood Insurance”)
Dated: June 18, 2003.
Anthony S. Lowe,
Mitigation Division Director, Emergency Preparedness and Response Directorate.

[FR Doc. 03-16291 Filed 6-26-03; 8:45 am]

BILLING CODE 6718-04-P